DEPARTMENT OF TRANSPORTATION

Federal Aviation Administration

Notice of Intent To Request Revision From the Office of Management and Budget of a Currently Approved Information Collection Activity, Request for Comments; Physiological Training

AGENCY: Federal Aviation Administration (FAA), DOT.

ACTION: Notice and request for comments.

SUMMARY: The FAA invites public comments about our intention to request the Office of Management and Budget (OMB) to approve a current information collection. This report is necessary to establish qualifications of eligibility to receive voluntary psychological training with the U.S. Air Force and will be used as proper evidence of training.

DATES: Please submit comments by October 15, 2007.

FOR FURTHER INFORMATION CONTACT: Carla Mauney on (202) 267-9895, or by e-mail at: Carla.Mauney@faa.gov.

SUPPLEMENTARY INFORMATION:

Federal Aviation Administration (FAA)

Title: Physiological Training.

Type of Request: Extension of an approved collection

OMB Control Number: 2120-0101.

Forms(s): There are no FAA forms associated with this collection.

Affected Public: A total of 5,500 respondents.

Frequency: The information is collected on occasion.

Estimated Average Burden Per Response: Approximately 8 minutes per response.

Estimated Annual Burden Hours: An estimated 733 hours annually.

Abstract: This report is necessary to establish qualifications of eligibility to receive voluntary psychological training with the U.S. Air Force and will be used as proper evidence of training. The information is collected from pilots and crewmembers for application to receive voluntary training.

ADDRESSES: Send comments to the FAA at the following address: Ms. Carla Mauney, Room 712, Federal Aviation Administration, IT Enterprises Business Services Division, AES-200, 800 Independence Ave., SW., Washington, DC 20591.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on August 8, 2007.
Carla Mauney,
FAA Information Collection Clearance Officer, IT Enterprises Business Services Division, AES-200.

[FR Doc. 07-3970 Filed 8-14-07; 8:45 am]

BILLING CODE 4910-13-M